DEPARTMENT OF ENERGY

Federal Energy Regulatory Commission

[Project Nos. P-11810-004, P-5044-008 and P-2935-015]

City of Augusta, Enterprise Mill LLC, Avondale Mills, Inc.; Notice of Applications Accepted for Filing; Soliciting Comments, Motions to Intervene and Protests; and Revised Schedule for Processing Applications

February 17, 2004.

Take notice that the following hydroelectric applications have been filed with the Commission and are available for public inspection.

a. Types of Applications: Original major license, new major license, subsequent minor license.

b. Project Nos.: P-11810-004, P-5044-008, and P-2935-015.

c. Dates filed: Augusta Canal, 02/03/03; Sibley Mill, 04/02/01; Enterprise Mill; 09/24/01.

d. Applicants: City of Augusta, Enterprise Mill LLC, Avondale Mills Inc.

e. Names of Projects: Augusta Canal Project, P-11810-004; Sibley Mill Project, P-5044-008; Enterprise Mill Project, P-2935-015.

f. Location: On the Augusta Canal, adjacent to the Savannah River, Richmond County, Augusta, GA. The Augusta Canal Project is located on the Savannah River at the diversion dam for the canal. Sibley Mill and Enterprise Mill are located in the Augusta Canal, about 5 and 6 miles, respectively, downstream of the diversion dam. The projects do not affect Federal lands.

g. Filed Pursuant to: Federal Power Act, 16 U.S.C. 791(a)—825(r).

h. Applicant Contacts: Augusta Canal: Max Hicks, Director, Utilities Department, 360 Bay Street, Suite 180, Augusta, Georgia 30901, (706) 312-4121; Sibley Mill: Mr. J. H. Vaughn, III, Avondale Mills Inc., P.O. Box 128, Graniteville, SC 29829, (803) 663-2116; Enterprise Mill: Beth E. Harris, Project Engineer, CHI Energy, Inc., P.O. Box 8597, Greenville, SC 29604, (864) 281-9630.

i. FERC Contact: Monte TerHaar, monte.terhaar@ferc.gov, (202) 502-6035.

j. Cooperating Agencies: We are asking Federal, State, local, and tribal agencies with jurisdiction and/or special expertise with respect to environmental issues to cooperate with us in the preparation of the environmental document. Agencies who would like to request cooperation status should follow the instruction for filing comments described in item n below.

k. Deadline for filing comments, motions to intervene, and protests: 60 days from the issuance date of this notice.

All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Motions to intervene may be filed electronically via the Internet in lieu of paper. The Commission strongly encourages electronic filings. See 18 CFR 385.2001(a)(1)(iii) and the instructions on the Commission's Web site (http://www.ferc.gov) under the “e-Filing” link.

l. These applications have been accepted, and are not ready for environmental analysis at this time.

m. Project Descriptions: Augusta Canal: The City of Augusta does not propose to construct hydroelectric generation facilities and the project would produce no power. Augusta proposes to license parts of the Augusta Canal system which pass flows for use by three existing hydroelectric projects located in the Augusta Canal. These projects are the 2.475 megawatt (MW) Sibley Mill Project, 2.05 MW King Mill Project, and the 1.2 MW Enterprise Project. The license for the King Mill Project, P-9988, does not expire until 5/31/2009, and is not being relicensed at this time. The proposed Augusta Canal Project would consist of the following: (1) The 1,666-foot-long stone masonry Augusta Diversion Dam; (2) the 2,250-foot-long Savannah River impoundment between Steven's Creek Dam and the Augusta Diversion Dam; and (3) the first level of the Augusta Canal, which extends about 7 miles between the Augusta Diversion Dam and the Thirteenth Street gates. Sibley Mill Project consists of: (1) Intake works including four steel diversion gates on a 50-foot-long by 15-foot-high intake structure equipped with 1-inch trash racks; (2) a concrete headrace 290 feet long, 42 feet wide, and 15 feet deep; (3) a brick powerhouse; (4) three vertical shaft Francis turbine/generator units with an installed capacity of 2.475 MW; (5) an open tailrace 350 feet long, 30 feet wide, and 38 feet deep returning flow to the Augusta Canal; and (6) appurtenant facilities. There is no dam or impoundment, as approximately 936 cfs of water is withdrawn from the Augusta Canal when operating at full capacity. The applicant estimates that the total average annual generation would be 11,000 megawatthours (MWh). All generated power is utilized within the industrial manufacturing facility in the Sibley Mill. No new facilities are proposed. The Enterprise Mill Project consists of: (1) intake works including two steel sliding, vertical lift intake gates; (2) primary and secondary steel trash racks; (3) two 300-foot-long, 8-foot-diameter penstocks; (4) two vertical shaft turbine/generator units with an installed capacity of 1.2 megawatts and a rated maximum discharge of 590 cfs, located inside the reinforced concrete and masonry Enterprise Mill structure; (5) an underground 350-foot-long tailrace, and open 500-foot-long tailrace section returning flow to the Augusta Canal, and (6) appurtenant facilities. There is no dam or impoundment, as approximately 580 cfs of water is withdrawn from the Augusta Canal when operating at full capacity. Developed head is approximately 30 feet. The applicant estimates that the annual generation would be between 5,000 and 8,000 MWh. Generated power is utilized within the applicant's Enterprise Mill which houses residential and commercial tenants, and excess power will be sold to Georgia Power Company. No new facilities are proposed.

n. Copies of the applications are available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. Copies are also available for inspection and reproduction at the addresses in item h above.

All filings must (1) bear in all capital letters the title “PROTEST”, “MOTION TO INTERVENE”, “COMMENTS”; (2) set forth in the heading the name of the applicant and the project number of the application to which the filing responds; (3) furnish the name, address, and telephone number of the person submitting the filing; and (4) otherwise comply with the requirements of 18 CFR 385.2001 through 385.2005. Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via email of new filings and issuances related to this or other pending projects. For assistance, contact FERC Online Support.

o. Procedural Schedule: the remaining schedule for processing these applications is revised as shown below. Revisions to this schedule may be made as appropriate.

Milestone | Target date
Notice Accepting Applications, and Motions to Intervene | February 2004.
Additional information requested | February 2004.
Additional Information due | April 2004.
Notice Ready for Environmental Analysis/Soliciting Final Comments, Recommendations, Terms and Conditions | April 2004.
Deadline for Agency Recommendations | June 2004.
Notice of the availability of the EA | August 2004.
Public Comments on EA due | September 2004.
Ready for Commission decision on the application | Oct.-Nov. 2004.

Magalie R. Salas,
Secretary.

[FR Doc. E4-355 Filed 2-23-04; 8:45 am]

BILLING CODE 6717-01-P